CORPORATION FOR NATIONAL AND COMMUNITY SERVICE

Sunshine Act Notice

The Board of Directors of the Corporation for National and Community Service gives notice of the following meeting:

DATE AND TIME: February 5, 2002, 9:30 a.m.-12:30 p.m.

PLACE: Corporation for National and Community Service, 1201 New York Avenue NW., 8th Floor, Washington, DC.

STATUS: Open.

MATTERS TO BE CONSIDERED:

I. Chair's Opening Remarks

II. Consideration of Prior Meeting's Minutes

III. Status Report by Chief Executive Officer

IV. Committee Reports

A. Executive Committee

B. Management, Budget, and Governance Committee

Inspector General Report

Audit Update

C. Planning and Evaluation Committee

Department of Research and Policy Development

Update on the Points of Light Foundation Initiative

Serve Study Initiative

D. Communications Committee

Reauthorization of National Service Legislation

V. National Service Reports and Discussions

A. Teaching Programs

Notre Dame's ACE Program

Teach for America

B. Learning In Deed Report

C. Survey of State Service Commissions

VI. Discussion of President's Agenda

VII. Future Board Meeting Dates

VIII. Public Comment

IX. Adjournment

ACCOMMODATIONS: Anyone who needs an interpreter or other accommodation should notify the Corporation's contact person.

CONTACT PERSON FOR FURTHER INFORMATION: Rhonda Taylor, Deputy Director of Public Liaison, Corporation for National Service, 8th Floor, Room 8619, 1201 New York Avenue NW., Washington, DC 20525. Phone (202) 606-5000 ext. 282. Fax (202) 565-2794. TDD: (202) 565-2799. E-mail: Rtaylor@cns.gov.

Dated: January 24, 2002.
Frank R. Trinity,
General Counsel, Corporation for National and Community Service.

[FR Doc. 02-2116 Filed 1-24-02; 12:44 pm]

BILLING CODE 6050-$$-P